DEPARTMENT OF HEALTH AND HUMAN SERVICES

Centers for Disease Control and Prevention

[Docket Number NIOSH 278]

Request for Nominations of Candidates To Serve on the Board of Scientific Counselors (BSC), National Institute for Occupational Safety and Health (NIOSH)

The Centers for Disease Control and Prevention (CDC) is soliciting nominations for possible membership on the BSC, NIOSH.

The BSC, NIOSH consists of 15 experts in fields related to occupational safety and health. The members are selected by the Secretary of the U.S. Department of Health and Human Services (HHS). The board advises the NIOSH Director on occupational safety and health research and prevention programs. The board also provides advice on standards of scientific excellence, current needs in the field of occupational safety and health, and the applicability and dissemination of research findings. This advice may take the form of reports or verbal communications to the NIOSH Director during BSC meetings. Nominations are being sought for individuals who have expertise and qualifications necessary to contribute to the accomplishment of the board's mission. More information is available on the NIOSH BSC Web site: http://www.cdc.gov/niosh/BSC/default.html.

Nominees will be selected based on expertise in occupational safety and health fields, such as occupational medicine, occupational nursing, industrial hygiene, occupational safety and health engineering, toxicology, chemistry, safety and health education, ergonomics, epidemiology, biostatistics, and psychology. Members may be invited to serve for terms of two to four years. Selected nominees would begin service on the BSC, NIOSH in January 2018.

The U.S. Department of Health and Human Services policy stipulates that committee membership shall be balanced in terms of points of view represented, and the committee's function. Appointments shall be made without discrimination on the basis of age, race, ethnicity, gender, sexual orientation, gender identity, HIV status, disability, and cultural, religious, or socioeconomic status. Nominees must be U.S. citizens, and cannot be full-time employees of the U.S. Government or federally registered lobbyists. Current participation on federal workgroups or prior experience serving on a federal advisory committee does not disqualify a candidate; however, HHS policy is to avoid excessive individual service on advisory committees and multiple committee memberships. Board members are Special Government Employees, requiring the filing of financial disclosure reports at the beginning and annually during their terms. CDC reviews potential candidates for the Board membership each year, and provides a slate of nominees for consideration to the Secretary of HHS for final selection.

Candidates should submit the following items:

• Current curriculum vitae, including complete contact information (name, affiliation, mailing address, telephone number, email address)

• A letter of recommendation stating the qualifications of the candidate.

Nominations must be submitted (postmarked or electronically received) by January 31, 2017.

Submissions must be electronic or by mail. Submissions should reference docket 278. Electronic submissions: You may electronically submit nominations, including attachments, to nioshdocket@cdc.gov.

Attachments in Microsoft Word are preferred. Regular, Express, or Overnight Mail: Written nominations may be submitted (one original and two copies) to the following address only: NIOSH Docket 278, c/o Richie Dickerson, Committee Management Specialist, National Institute for Occupational Safety and Health, Centers for Disease Control and Prevention, 1600 Clifton Road NE., MS: E-20, Atlanta, Georgia 30329. Telephone and facsimile submissions cannot be accepted.

The Director, Management Analysis and Services Office, has been delegated the authority to sign Federal Register notices pertaining to announcements of meetings and other committee management activities for both the Centers for Disease Control and Prevention, and the Agency for Toxic Substances and Disease Registry.

Catherine Ramadei,
Acting Director, Management Analysis and Services Office, Centers for Disease Control and Prevention.

[FR Doc. 2016-30522 Filed 12-19-16; 8:45 am]

BILLING CODE 4163-18-P